DEPARTMENT OF THE INTERIOR

Bureau of Land Management

[WY-030-040-1310-DD]

Notice of Availability of the Record of Decision and the Final Environmental Impact Statement for Desolation Flats Natural Gas Field Development Project, Carbon and Sweetwater Counties, Wyoming

AGENCY: Bureau of Land Management, Interior.

ACTION: Notice of Availability (NOA).

SUMMARY: In accordance with the National Environmental Policy Act of 1969, the Bureau of Land Management (BLM) announces the availability of the ROD for Desolation Flats Natural Gas Field Development Project.

ADDRESSES: The document will be available electronically on the following Web site: http://www.wy.blm.gov/nepa/nepadocs.htm. Copies of the ROD are available for public inspection at the following BLM office locations:

• Bureau of Land Management, Wyoming State Office, 5353 Yellowstone Road, Cheyenne, Wyoming 82003.

• Bureau of Land Management, Rawlins Field Office, 1300 N. 3rd Street, Rawlins, Wyoming 82301.

• Bureau of Land Management, Rock Springs Field Office, 280 Highway 191 North, Rock Springs, Wyoming 82901.

FOR FURTHER INFORMATION CONTACT: David Simons, Project Leader, Rawlins Field Office, 1300 N. 3rd Street, Rawlins, Wyoming 82301 or Teri Deakins, Rock Springs Field Office, 280 Highway 191 North, Rock Springs, Wyoming 82901. Mr. Simons and Ms. Deakins may be contacted by telephone at (307) 328-4200 and (307) 352-0329, respectively.

SUPPLEMENTARY INFORMATION: This ROD addresses approximately 233,542 acres of public lands administered by the BLM Rock Springs and Rawlins Field Offices, Carbon and Sweetwater Counties, Wyoming. A copy of the ROD has been sent to affected Federal, State, and local government agencies and interested parties.

Dated: July 7, 2004.
Donald A. Simpson,
Acting State Director.

[FR Doc. 04-19609 Filed 8-26-04; 8:45 am]

BILLING CODE 4310-22-P